DEPARTMENT OF AGRICULTURE

Food and Nutrition Service

Agency Information Collection Activities: Proposed Collection; Comment Request—Generic Clearance To Conduct Pre-Testing of Surveys

AGENCY: Food and Nutrition Service (FNS), USDA.

ACTION: Notice.

SUMMARY: In accordance with the Paperwork Reduction Act of 1995, this notice invites the general public and other public agencies to comment on this proposed information collection. This collection is an extension, without change, of a currently approved collection to conduct various procedures to test questionnaires and survey procedures to improve the quality and usability of information collection instruments.

DATES: Written comments must be received on or before November 13, 2018.

ADDRESSES: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Comments may be sent to: Planning and Regulatory Affairs Office, Food and Nutrition Service, U.S. Department of Agriculture, 3101 Park Center Drive, Room 1014, Alexandria, VA 22302. Comments will also be accepted through the Federal eRulemaking Portal. Go to http://www.regulations.gov, and follow the online instructions for submitting comments electronically.

All written comments will be open for public inspection at the office of the Food and Nutrition Service during regular business hours (8:30 a.m. to 5 p.m. Monday through Friday) at 3101 Park Center Drive, Room 1014, Alexandria, Virginia 22302.

All responses to this notice will be summarized and included in the request for Office of Management and Budget approval. All comments will be a matter of public record.

FOR FURTHER INFORMATION CONTACT: Requests for additional information or copies of this information collection should be directed to either Rachelle Ragland-Greene at 703-305-2586, or the Planning and Regulatory Affairs Office at 703-305-2017.

SUPPLEMENTARY INFORMATION:

Title: Generic Clearance to Conduct Pre-Testing of Surveys.

OMB Number: 0584-0606.

Expiration Date: March 31, 2019.

Type of Request: Extension of a currently approved information collection request, without change.

Abstract: The Food and Nutrition Service (FNS) intends to request approval from the Office of Management and Budget (OMB) for a generic clearance that will allow FNS to conduct a variety of data-gathering activities aimed at improving the quality and usability of information collection instruments associated with research and analysis activities.

The data-gathering activities utilized to this effect include but are not limited to experiments with levels of incentives for study participants, tests of various types of survey operations, focus groups, cognitive laboratory activities, pilot testing, exploratory interviews, experiments with questionnaire design, and usability testing of electronic data collection instruments. FNS envisions using a variety of techniques including field tests, respondent debriefing questionnaires, cognitive interviews, and focus groups in order to identify questionnaire and procedural problems, suggest solutions, and measure the relative effectiveness of alternative solutions.

Following standard OMB requirements, FNS will submit a change request to OMB for each data collection activity undertaken under this generic clearance. FNS will provide OMB with the instruments and supporting materials describing the research project and specific pre-testing activities.

Affected Public: The respondents will be identified at the time that each change request is submitted to OMB. Respondents will include State, Local and Tribal Government; Individual/Households; and/or Businesses.

Estimated Number of Respondents: 2,200.

Estimated Number of Responses per Respondent: 1.

Estimated Total Annual Responses: 2,200.

Estimated Time per Response: 0.682.

Estimated Total Annual Burden on Respondents: 2,200.

Respondent | Estimated number of respondents | Responses annually per respondent | Total annual responses (col. bxc) | Estimated average number of hours per response | Estimated total hours (col. dxe)
Reporting Burden:
Pretesting Respondents (State, Local and Tribal Government; Individual/Households; and/or Businesses) | 2,200.00 | 1.00 | 2,200.00 | 0.682 | 1,500.00
Grand Total Burden Estimates for 3 years |  |  | 6,600.00 |  | 4,500.00

Dated: September 6, 2018.
Brandon Lipps,
Administrator, Food and Nutrition Service.

[FR Doc. 2018-19910 Filed 9-13-18; 8:45 am]

BILLING CODE 3410-30-P